FEDERAL DEPOSIT INSURANCE CORPORATION

Designated Reserve Ratio for 2026

AGENCY: Federal Deposit Insurance Corporation.

ACTION: Notice of Designated Reserve Ratio for 2026.

SUMMARY: Pursuant to the Federal Deposit Insurance Act (FDI Act), the Board of Directors (Board) of the Federal Deposit Insurance Corporation (FDIC) designates that the Designated Reserve Ratio (DRR) for the Deposit Insurance Fund shall remain at 2 percent for 2026. The Board is publishing this notice as required by the FDI Act.

FOR FURTHER INFORMATION CONTACT: Ashley Mihalik, Deputy Director, Deposit Insurance and Risk Analysis, Division of Insurance and Research, 202-898-3793, amihalik@fdic.gov; Daniel Hoople, Acting Associate Director, Financial Risk Management Branch, Division of Insurance and Research, 202-898-3835, dhoople@fdic.gov; or Ryan McCarthy, Counsel, Legal Division, 202-898-7301, rymccarthy@fdic.gov.

SUPPLEMENTARY INFORMATION: Pursuant to the FDI Act, the Board designates that the DRR for the Deposit Insurance Fund shall remain at 2 percent for 2026. The Board is publishing this notice as required by section 7(b)(3)(A)(i) of the FDI Act (12 U.S.C. 1817(b)(3)(A)(i)). There is no need to amend 12 CFR 327.4(g), the section of the FDIC's regulations that sets forth the DRR, because the DRR for 2026 is the same as the current DRR.

Federal Deposit Insurance Corporation.
By order of the Board of Directors.
Dated at Washington, DC November 25, 2025.
Jennifer M. Jones,
Deputy Executive Secretary.

[FR Doc. 2025-21460 Filed 11-26-25; 8:45 am]

BILLING CODE 6714-01-P